DEPARTMENT OF TRANSPORTATION

Federal Railroad Administration

Notice of Application for Approval of Discontinuance or Modification of a Railroad Signal System or Relief From Requirements

Pursuant to Title 49 Code of Federal Regulations (CFR) part 235 and 49 U.S.C. 20502(a), the following railroad has petitioned the Federal Railroad Administration (FRA) seeking approval for the discontinuance or modification of the signal system or relief from the requirements of 49 CFR part 236 as detailed below.

Docket Number FRA-2004-19395

Applicant: Union Pacific Railroad, Mr. Steven C. Beckwith, Director Service Performance, 1400 Douglas Stop 1050, Omaha, Nebraska 68179-1050.

The Union Pacific Railroad Company (UP) seeks relief from the requirements of the Rules, Standards and Instructions, 49 CFR, part 236, Section 236.110 and Section 236.586 as it pertains to the physical record keeping requirements for cab signal equipment on locomotives equipped with Harmon Cab Signal Systems.

Applicant's justification for relief: The UP received a waiver through Docket Number FRA-2001-11014, which allows the use of electronic signatures and electronic storage of daily locomotive inspection records. The UP states that there are two parts to their electronic daily inspections, and both call for the inspection of the cab signal receiver bars on locomotives equipped with Harmon Cab Signal Systems. The UP contends that the inspections are being performed, and approval of this waiver will fall in line with our current electronic daily inspection procedures. In addition this will provide further compliance with the various electronic signature and paperwork reduction laws enacted by the U.S. Congress.

Any interested party desiring to protest the granting of an application shall set forth specifically the grounds upon which the protest is made, and include a concise statement of the interest of the party in the proceeding. Additionally, one copy of the protest shall be furnished to the applicant at the address listed above.

All communications concerning this proceeding should be identified by the docket number and must be submitted to the Docket Clerk, DOT Central Docket Management Facility, Room PI-401, 400 7th Street, SW., Washington, DC 20590-0001. Communications received within 45 days of the date of this notice will be considered by the FRA before final action is taken. Comments received after that date will be considered as far as practicable. All written communications concerning these proceedings are available for examination during regular business hours (9 a.m.-5 p.m.) at the above facility. All documents in the public docket are also available for inspection and copying on the internet at the docket facility's Web site at http://dms.dot.gov.

FRA wishes to inform all potential commenters that anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FRA expects to be able to determine these matters without an oral hearing. However, if a specific request for an oral hearing is accompanied by a showing that the party is unable to adequately present his or her position by written statements, an application may be set for public hearing.

Issued in Washington, DC on November 1, 2004.
Grady C. Cothen, Jr.,
Acting Associate Administrator for Safety.

[FR Doc. 04-24773 Filed 11-4-04; 8:45 am]

BILLING CODE 4910-06-P